DEPARTMENT OF ENERGY

Federal Energy Regulatory Commission

[Project No. 2662-012-CT; Project No. 12968-001-CT]

FirstLight Hydro Generating Company, City of Norwich Dept. of Public Utilities; Notice of Availability of Final Environmental Assessment

In accordance with the National Environmental Policy Act of 1969 and the Federal Energy Regulatory Commission (Commission) regulations, 18 CFR part 380 (Order No. 486, 52 FR 47897), the Office of Energy Projects has reviewed competing applications for a new license for the Scotland Hydroelectric Project (Commission Project Nos. 2662-012 and 12968-001). The Scotland Hydroelectric Project is located on the Shetucket River, in Windham County, Connecticut. The existing licensee for the project is FirstLight Hydro Generating Company (FirstLight). The competitor applicant for the Scotland Hydroelectric Project No. 12968 is the City of Norwich Department of Public Utilities (Norwich Public Utilities).

Staff has prepared a final environmental assessment (EA) that analyzes the potential environmental effects of relicensing the project as proposed by FirstLight and Norwich Public Utilities, and concludes that licensing the project with either proposal, with appropriate environmental protection measures, would not constitute a major federal action that would significantly affect the quality of the human environment.

A copy of the final EA is available for review at the Commission in the Public Reference Room or may be viewed on the Commission's Web site at www.ferc.gov using the “eLibrary” link. Enter the docket number for either project, excluding the last three digits, in the docket number field to access the document. For assistance, contact FERC Online Support at FERCOnlineSupport@ferc.gov; toll-free at 1-866-208-3676; or for TTY, 202-502-8659.

You may also register online at www.ferc.gov/docs-filing/esubscription.asp to be notified via email of new filings and issuances related to these or other pending projects. For assistance, contact FERC Online Support.

For further information, contact Janet Hutzel at (202) 502-8675 or by email at janet.hutzel@ferc.gov.

Dated: January 16, 2013.
Kimberly D. Bose,
Secretary.

[FR Doc. 2013-01285 Filed 1-22-13; 8:45 am]

BILLING CODE 6717-01-P